DEPARTMENT OF TRANSPORTATION

National Highway Traffic Safety Administration

23 CFR Part 1300

[Docket No. NHTSA-2025-0061]

RIN 2127-AM73

Uniform Procedures for State Highway Safety Grant Programs

AGENCY: National Highway Traffic Safety Administration (NHTSA), U.S. Department of Transportation (DOT).

ACTION: Notice of proposed rulemaking.

SUMMARY: This action proposes revisions to certain documentation requirements relating to public participation and engagement in the Uniform Procedures for State Highway Safety Grant Programs.

DATES: Comments in response to this notice of proposed rulemaking must be submitted by October 20, 2025. In compliance with the Paperwork Reduction Act, NHTSA is also seeking comment on revisions to an existing information collection. For additional information, see the Paperwork Reduction Act section under the Regulatory Notices and Analyses section below. All comments relating to the information collection requirements should be submitted to NHTSA and to the Office of Management and Budget (OMB) at the address listed in the ADDRESSES section on or before October 20, 2025.

ADDRESSES: You may submit written comments, identified by docket number or RIN, by any of the following methods:

• Federal eRulemaking Portal: Go to http://www.regulations.gov. Follow the online instructions for submitting comments.

• Mail: Docket Management Facility, U.S. Department of Transportation, 1200 New Jersey Avenue SE, Room W12-140, Washington, DC 20590-0001.

• Hand Delivery or Courier: 1200 New Jersey Avenue SE, West Building, Ground Floor, Room W12-140, between 9 a.m. and 5 p.m. E.T., Monday through Friday, except Federal holidays. To be sure someone is there to help you, please call 202-366-9826 before coming.

Comments on the proposed information collection requirements should be submitted to: Office of Management and Budget at www.reginfo.gov/public/do/PRAMain. To find this particular information collection, select “Currently under Review—Open for Public Comment” or use the search function. It is requested that comments sent to the OMB also be sent to the NHTSA rulemaking docket identified in the heading of this document.

Instructions: All written submissions must include the agency name and docket number or Regulatory Information Number (RIN) for this rulemaking. Note that all comments received will be posted without change to http://www.regulations.gov, including any personal information provided. For detailed instructions on sending comments and additional information on the rulemaking process, see the “Public Participation” heading of the SUPPLEMENTARY INFORMATION section of this document.

Docket: For access to the docket go to http://www.regulations.gov at any time or to 1200 New Jersey Avenue SE, West Building, Ground Floor, Room W12-140, Washington, DC 20590 between 9 a.m. and 5 p.m., Monday through Friday, except Federal Holidays. Telephone: 202-366-9826.

Privacy Act: Please see the Privacy Act heading under Regulatory Analyses and Notices.

FOR FURTHER INFORMATION CONTACT:

Program issues: Barbara Sauers, Associate Administrator, Regional Operations and Program Delivery, National Highway Traffic Safety Administration; Telephone number: (202) 366-0144; Email: barbara.sauers@dot.gov.

Legal issues: Megan Brown, Attorney-Advisor, Office of the Chief Counsel, National Highway Traffic Safety Administration, 1200 New Jersey Avenue SE, Washington, DC 20590; Email: megan.brown@dot.gov.

SUPPLEMENTARY INFORMATION:

Table of Contents

I. Background

II. Department of Transportation Request for Information

III. Proposal

IV. Request for Comments

V. Regulatory Analyses and Notices

I. Background

NHTSA and its State highway safety grant program recipients share a joint mission of saving lives and preventing injuries from motor vehicle crashes. NHTSA projects that an estimated 39,345 people died in motor vehicle crashes in 2024; this marks the third consecutive year of decreasing traffic fatalities.¹ These reductions in fatality rates attest to the important work that NHTSA and the States can achieve together through the highway safety grant program. To support States in their administration of highway safety grants funds, NHTSA seeks to apply reasonable administrative requirements necessary to carry out the agency's responsibilities as a steward of taxpayer funds while minimizing administrative burdens on States so they can focus efforts on implementing needed highway safety programs. When, in the course of administering the grant program, NHTSA identifies an administrative requirement that is unduly burdensome or duplicative, NHTSA will take action to minimize that burden where possible.

¹ National Center for Statistics and Analysis (April 2025), Early Estimate of Motor Vehicle Traffic Fatalities in 2024 (Traffic Safety Facts Crash•Stats Brief Statistical Summary, Report No. DOT HS 813 710), National Highway Traffic Safety Administration, available at https://crashstats.nhtsa.dot.gov/Api/Public/ViewPublication/813710.

In the Infrastructure Investment and Jobs Act (IIJA),² Congress created a new requirement that State highway safety programs funded by NHTSA highway safety grants “result[ ] from meaningful public participation and engagement from affected communities, particularly those most significantly impacted by traffic crashes resulting in injuries and fatalities.” ³ NHTSA implemented the public participation and engagement (PP&E) requirement in the highway safety grant program through a final rule published on February 6, 2023.⁴

² Public Law 117-58 (Nov. 15, 2021).

³ 23 U.S.C. 402(b)(1)(B).

⁴ 88 FR 7780 (Feb. 6, 2023).

Under the current grant program regulation, States demonstrate compliance with the statutory public participation and engagement requirement in two program submissions: the triennial Highway Safety Plan (triennial HSP) and the Annual Report. In the triennial HSP, a State must provide a description of its plan for PP&E efforts in its highway safety planning process and describe the outcomes of the activities carried out as a result of that plan. A State must also describe the State's plan for continuing public participation and engagement activities throughout the three years covered by the triennial HSP. 23 CFR 1300.11(b)(2). In order to ensure the public participation and engagement described in the triennial HSP plays a role in the State's highway safety program throughout the three-year life of the plan, NHTSA requires States to describe in the Annual Report how the projects that were implemented were informed by the State's public participation and engagement. 23 CFR 1300.35(b)(2).

The final rule was the result of extensive efforts to facilitate opportunities for States and other stakeholders to provide input throughout the rulemaking process, including a published request for comments and public hearings on top of the usual notice of proposed rulemaking (NPRM) and comment period.⁵ As a result of this outreach, NHTSA sought to create a flexible structure that met the intent of the statutory requirement without dictating or limiting how States conducted PP&E efforts. During the public comment process and after publication of the rule, many States asked NHTSA for more specific examples of how to identify affected communities and conduct PP&E or for NHTSA to share best practices. Therefore, NHTSA continued its outreach to States on the PP&E requirement after publication of the final rule by offering several training opportunities and by providing technical assistance to States upon request. In addition, NHTSA staff engage in outreach through national and regional meetings and conferences with States, regular interactions with States at a regional office level, and regularly scheduled check-ins with interested stakeholder organizations.

⁵ Uniform Procedures for State Highway Safety Grant Programs, Notification of public meetings; request for comments (RFC), 87 FR 23780 (Apr. 21, 2022); Notice of proposed rulemaking, 87 FR 56756 (Sept. 15, 2022).

As a result of these outreach efforts and feedback received, NHTSA recognizes the need to consider adjusting the PP&E documentation requirements to be more aligned with the varying resources and needs of the different State highway safety offices. Though participation by affected communities is an administrative priority and a statutory requirement of NHTSA's grant funds (23 U.S.C. 402(b)(1)(B)), NHTSA acknowledges that some PP&E reporting requirements could be reduced.

II. Department of Transportation Request for Information

On May 5, 2025, DOT published a request for information (RFI) seeking comments and information to assist DOT in identifying existing regulations, guidance, paperwork requirements, and other regulatory obligations that can be modified or repealed, consistent with law, to ensure that DOT administrative actions do not undermine the national interest and DOT achieves meaningful burden reduction while continuing to meet statutory obligations and to ensure the safety of the U.S. transportation system. 90 FR 14593. The Governors Highway Safety Association (GHSA), an association representing State and territorial Highway Safety Offices (SHSOs), submitted a comment in response to the RFI.⁶ GHSA states in its comment that NHTSA's implementation of the IIJA PP&E requirements “has been heavy handed and focused on oversight of the process for implementing it not on SHSOs achieving the desired outcomes.” GHSA requests that NHTSA remove “the expanded [triennial HSP] obligations, related annual report narratives, and other reporting requirements for PP&E from Title 23 CFR [Part] 1300 and simplify the program by allowing states to certify that they are meeting the requirement outlined in statute through the annual Certifications and Assurances process outlined in Appendix A of [Part] 1300.”

⁶ Document ID DOT-OST-2025-0026-0955, available at https://www.regulations.gov/comment/DOT-OST-2025-0026-0955.

NHTSA addresses GHSA's comment in the discussion of the agency's current proposal below.

III. Proposal

Today's action proposes revisions to reduce administrative burdens relating to implementation of the statutory public participation and engagement requirements in NHTSA's highway safety grant program rule by eliminating the public participation and engagement section from the triennial Highway Safety Plan.

Specifically, NHTSA proposes to remove 23 CFR 1300.11(b)(2)—which lays out the public participation and engagement requirements for the triennial HSP—in its entirety. The planning information required in the triennial HSP submission represents an additional reporting requirement covering implementation of the statutory PP&E requirement, but as NHTSA has learned through experience, the triennial HSP planning information provides limited value for NHTSA's oversight of the statutory provision. NHTSA included planning requirements for PP&E in the triennial HSP in order to set out a process that would incorporate PP&E into all stages of a State's highway safety program lifecycle, including at the planning stage. By creating a check early in the State's program planning process, NHTSA sought to avoid situations where it discovered, after the close of the grant year, that a State had failed to meet a statutory condition of the highway safety grants. However, NHTSA now believes that the benefit of a formal early check is outweighed by the burden imposed on States through prescribing a uniform process for thinking about PP&E. By removing the triennial HSP section relating to PP&E, NHTSA would intend to provide States with increased flexibility to implement the statute's intent in the manner that best suits their individual programs. Removal of PP&E reporting requirements in the triennial HSP would also lessen administrative burden for State grant applicants. No longer would States be required to lay out PP&E activities on a prospective basis in the triennial HSP submission. States also would no longer be required to describe outcomes of their PP&E efforts in the triennial HSP.

NHTSA proposes to retain the regulatory PP&E reporting requirement in the Annual Report in order to fulfill its duty to ensure that States satisfy the statutory PP&E requirement. Under the current regulation, States are required to provide “a narrative description of the public participation and engagement efforts carried out and how those efforts informed projects implemented under countermeasure strategies during the grant year.” 23 CFR 1300.35(b)(2). That requirement is meant to provide NHTSA with a high-level discussion of the State's PP&E efforts. NHTSA believes that the after-the-fact description of State efforts currently required in the Annual Report is sufficient to provide NHTSA with confidence that States are meeting their statutory responsibilities related to PP&E while providing States with maximum flexibility in how to implement PP&E within State highway safety programs.

As a result of the proposed removal of the public participation and engagement section of the triennial HSP, NHTSA proposes to make minor related amendments to three parts of the regulatory text that reference the PP&E section of the triennial HSP. Specifically, NHTSA plans to remove the term “public participation and engagement” from the definition of triennial Highway Safety Plan (23 CFR 1300.3) and from the clarifying clause in 23 CFR 1300.11(b)(1)(i) that lists the triennial HSP sections. In addition, NHTSA proposes to delete the reference to 23 CFR 1300.11(b)(2) in the local expenditure section of 23 CFR 1300.13(b)(3)(i) and to rewrite the clause to reference PP&E activities more generally as an example of a way that a State may solicit political subdivision involvement during the highway safety planning process.

IV. Request for Comments

As discussed above, NHTSA provided numerous opportunities for States and other stakeholders to provide input throughout the initial implementation of the PP&E requirement following passage of IIJA. NHTSA remains very interested in ensuring that it takes into account State and stakeholder concerns, and in receiving comments on all aspects of this NPRM from these interested parties. In particular, NHTSA seeks comment on whether removal of the PP&E reporting requirements in the triennial HSP provides meaningful flexibility and burden reduction for States and does not limit unjustifiably NHTSA's ability to ensure States are meeting statutory requirements. NHTSA further seeks comment on whether the Annual Report's current requirement to provide a narrative description of PP&E efforts is sufficient to ensure States are meeting statutory requirements and not overly burdensome. Finally, NHTSA seeks comment on any potentially less burdensome alternatives that would be sufficient to ensure States are meeting statutory requirements.

This section describes how you can participate in the process.

How do I prepare and submit comments?

Your comments must be written in English.⁷ To ensure that your comments are filed correctly in the docket, please include the docket number NHTSA-2025-xxxx in your comment. Your comments must not be more than 15 pages long.⁸ NHTSA established this limit to encourage you to write your primary comments in a concise fashion. However, you may attach necessary additional documents to your comments, and there is no limit on the length of the attachments. If you are submitting comments electronically as a PDF (Adobe) file, we ask that the documents please be scanned using the Optical Character Recognition (OCR) process, thus allowing NHTSA to search and copy certain portions of your submissions.⁹ Please note that pursuant to the Data Quality Act, in order for substantive data to be relied upon and used by the agency, it must meet the information quality standards set forth in the OMB and DOT Data Quality Act guidelines. Accordingly, we encourage you to consult the guidelines in preparing your comments. OMB's guidelines may be accessed at https://www.gpo.gov/fdsys/pkg/FR-2002-02-22/pdf/R2-59.pdf. DOT's guidelines may be accessed at https://www.transportation.gov/dotinformation-dissemination-qualityguidelines.

⁷ 49 CFR 553.21.

⁸ Id.

⁹ Optical character recognition (OCR) is the process of converting an image of text, such as a scanned paper document or electronic fax file, into computer-editable text.

Tips for Preparing Your Comments

When submitting comments, please remember to:

• Identify the rulemaking by docket number and other identifying information (subject heading, Federal Register date and page number).

• Explain why you agree or disagree, suggest alternatives, and substitute language for your requested changes.

• Describe any assumptions and provide any technical information or data that you used.

• If you estimate potential costs or burdens, explain how you arrived at your estimate in sufficient detail to allow for it to be reproduced.

• Provide specific examples to illustrate your concerns and suggest alternatives.

• Explain your views as clearly as possible, avoiding the use of profanity or personal threats.

• Make sure to submit your comments by the comment period deadline identified in the DATES section above.

How can I be sure that my comments were received?

If you submit your comments to NHTSA's docket by mail and wish DOT Docket Management to notify you upon receipt of your comments, please enclose a self-addressed, stamped postcard in the envelope containing your comments. Upon receiving your comments, Docket Management will return the postcard by mail.

How do I submit confidential business information?

If you wish to submit any information under a claim of confidentiality, you should submit three copies of your complete submission, including the information you claim to be confidential business information, to the Chief Counsel, NHTSA, at the address given above under FOR FURTHER INFORMATION CONTACT. When you send a comment containing confidential business information, you should include a cover letter setting forth the information specified in 49 CFR part 512.

In addition, you should submit a copy from which you have deleted the claimed confidential business information to the Docket by one of the methods set forth above.

Will NHTSA consider late comments?

NHTSA will consider all comments received before the close of business on the comment closing date indicated above under DATES. To the extent practicable, we will also consider comments received after that date. If interested persons believe that any information the agency places in the docket after the issuance of the NPRM affects their comments, they may submit comments after the closing date concerning how the agency should consider that information for the final rule. However, the agency's ability to consider any such late comments in this rulemaking will be limited due to the time frame for issuing a final rule. If a comment is received too late for us to consider in developing a final rule, we will consider that comment as an informal suggestion for future rulemaking action.

How can I read the comments submitted by other people?

You may read the materials placed in the docket for this document (e.g., the comments submitted in response to this document by other interested persons) at any time by going to https://www.regulations.gov. Follow the online instructions for accessing the dockets. You may also read the materials at the DOT Docket Management Facility by going to the street address given above under ADDRESSES.

V. Regulatory Analyses and Notices

A. Executive Order (E.O.) 12866 (Regulatory Planning and Review)

NHTSA has considered the impact of this rulemaking action under E.O. 12866.¹⁰ This rulemaking does not meet the criteria of a “significant regulatory action” under E.O. 12866. Therefore, the Office of Management and Budget (OMB) has not reviewed this proposed rule under that E.O.

¹⁰ Regulatory Planning and Review, 58 FR 51735 (Oct. 4, 1993).

Submission of a triennial Highway Safety Plan is required for any State to receive a highway safety grant. The triennial HSP is submitted only once every three years, and there are a total of 57 eligible respondents (fifty States, the District of Columbia, Puerto Rico, the U.S. Virgin Islands, Guam, American Samoa, the Commonwealth of the Northern Mariana Islands, and the Bureau of Indian Affairs). NHTSA projects that this action, if adopted as proposed, would save each applicant 64 hours that was used previously to collect, review, and submit the PP&E section of the triennial HSP.

For the costs associated with respondents preparing application materials, NHTSA used the estimated average wage for “Management Analysts,” Occupation Code 13-1111. The Bureau of Labor Statistics estimates that the average hourly wage for management analysts in State and local government is $37.31.¹¹ The Bureau of Labor Statistics estimates that wages for State and local government workers represent 61.6 percent of total compensation costs.¹² Therefore, NHTSA estimates the hourly labor costs to be $55.44 and estimates that hourly labor cost associated with preparing the PP&E section of the triennial HSP to be $3,548.16 per respondent. Historically, all eligible States apply for and receive grants, so the total labor costs saved by all respondents by this proposal would be $202,245.12, once every three years.

¹¹ See May 2024 Occupational Employment and Wage Estimates, Industry: State Government, excluding Schools and Hospitals (OEWS Designation), available at https://data.bls.gov/oes/#/industry/999200 (accessed June 23, 2025).

¹² See Table 1. Employer Costs for Employee Compensation by ownership, available at https://www.bls.gov/news.release/ecec.t01.htm (accessed June 23, 2025).

NHTSA requests comment on the costs and benefits associated with this proposal.

B. Executive Order (E.O.) 14192 (Unleashing Prosperity Through Deregulation)

This proposed rule, if finalized as proposed, is expected to be an E.O. 14192 ¹³ deregulatory action. The rulemaking seeks to decrease States' administrative burden by proposing to remove requirements to document public participation and engagement in triennial Highway Safety Plan submissions.

¹³ Unleashing Prosperity through Deregulation, 90 FR 9065 (Feb. 6, 2025).

NHTSA estimates the cost savings of this proposal would be $202,245.12, once every three years. See discussion at V.A. E.O. 12866 (Regulatory Planning and Review), above for more information.

C. Regulatory Flexibility Act

The Regulatory Flexibility Act (RFA) of 1980 (5 U.S.C. 601 et seq.) requires agencies to evaluate the potential effects of their proposed and final rules on small businesses, small organizations, and small governmental jurisdictions. Section 605 of the RFA allows agencies to certify a rule, in lieu of preparing an analysis, if the proposed rulemaking is not expected to have a significant economic impact on a substantial number of small entities. The Small Business Regulatory Enforcement Fairness Act of 1996 (Pub. L. 104-21, 110 Stat. 857) amended the RFA to require Federal agencies to provide a statement of the factual basis for certifying that an action would not have a significant economic impact on a substantial number of small entities.

This action proposes a limited revision to the uniform procedures implementing State highway safety grant programs, which were determined previously not to have a significant impact on a substantial number of small entities. The grant programs impacted by this rule will affect State governments, which are not considered to be small entities as that term is defined by the RFA. Therefore, NHTSA certifies that the proposed action will not have a significant impact on a substantial number of small entities and finds that preparing a Regulatory Flexibility Analysis is unnecessary.

D. E.O. 13132 (Federalism)

E.O. 13132 on “Federalism” requires NHTSA to develop an accountable process to ensure “meaningful and timely input by State and local officials in the development of regulatory policies that have federalism implications.” 64 FR 43255 (August 10, 1999). “Policies that have federalism implications” are defined in the E.O. to include regulations that have “substantial direct effects on the States, on the relationship between the national government and the States, or on the distribution of power and responsibilities among the various levels of government.” Under E.O. 13132, an agency may not issue a regulation with federalism implications that imposes substantial direct compliance costs not required by statute unless the Federal government provides the funds necessary to pay the direct compliance costs incurred by State and local governments or the agency consults with the State and local government in the process of developing the proposed regulation. An agency also may not issue a regulation with Federalism implications that preempts a State law without consulting with State and local officials.

NHTSA analyzed this rulemaking action in accordance with the principles and criteria set forth in E.O. 13132. The revisions proposed in this rulemaking will decrease reporting requirements for States submitting triennial Highway Safety Plans as a basis to receive grant funding. Therefore, NHTSA determines that this proposal would not have sufficient Federalism implications as defined in the Order to warrant formal consultation with State and local officials or preparation of a Federalism summary impact statement.

E. E.O. 12988 (Civil Justice Reform)

Pursuant to E.O. 12988 (61 FR 4729 (February 7, 1996)), “Civil Justice Reform,” the agency has considered whether this proposed rule would have any retroactive effect. NHTSA concludes that the proposed would not have any retroactive or preemptive effect, and judicial review may be obtained pursuant to 5 U.S.C. 702. Section 702 does not require that a petition for reconsideration be filed prior to seeking judicial review. This action meets applicable standards in sections 3(a) and 3(b)(2) of E.O. 12988, Civil Justice Reform, to minimize litigation, eliminate ambiguity, and reduce burden.

F. Paperwork Reduction Act

Under the procedures established by the Paperwork Reduction Act of 1995 (PRA) (44 U.S.C. 3501, et. seq.), Federal agencies must obtain approval from the OMB for each collection of information they conduct, sponsor, or require through regulations. A person is not required to respond to a collection of information by a Federal agency unless the collection displays a valid OMB control number. The Information Collection Request (ICR) for a revision to the existing information collection described below has been forwarded to OMB for review and comment. In compliance with these requirements, NHTSA asks for public comments on the following proposed collection of information for which the agency is seeking approval from OMB.

Title: State Highway Safety Grant Programs.

OMB Control Number: 2127-0760.

Form Number: N/A (triennial Highway Safety Plan).

Type of Request: Revision of currently approved information collection.

Type of Review Requested: Regular.

Requested Expiration Date of Approval: Retain existing expiration date (August 31, 2026).

Summary of the Collection of Information: In the Infrastructure Investment and Jobs Act (IIJA), Public Law 117-58, Congress created a new requirement that State highway safety programs funded by NHTSA highway safety grants “result[ ] from meaningful public participation and engagement from affected communities, particularly those most significantly impacted by traffic crashes resulting in injuries and fatalities.” NHTSA implemented the public participation and engagement (PP&E) requirement in the highway safety grant program through a final rule published on February 6, 2023.¹⁴

¹⁴ 88 FR 7780.

This action proposes to decrease States' administrative burden by proposing to remove requirements to document public participation and engagement in triennial Highway Safety Plan (HSP) submissions.

Description of the Need for the Information and Proposed Use of the Information: The authorizing statute for the NHTSA highway safety grant program, Section 402, provides that States apply and qualify for State highway safety grants through submission of a triennial Highway Safety Plan and Annual Grant Application. The information contained in those documents is necessary to determine whether a State satisfies the criteria for grant awards. In addition to a reporting requirement in the Annual Report (which NHTSA does not propose to revise), NHTSA implemented the PP&E requirement through planning and reporting requirements in the triennial HSP. As a result of feedback from State applicants as well as NHTSA's experience overseeing the triennial HSP requirements, NHTSA no longer believes that the information provided in the PP&E section of the triennial HSP is necessary to ensure that States meet the statutory PP&E requirement.

Affected Public and Estimated Number of Respondents: This collection impacts the 57 governmental entities that are eligible to apply for grants under the NHTSA Highway Safety Grant Program (the 50 States, the District of Columbia, Puerto Rico, American Samoa, Guam, the Northern Mariana Islands, the U.S. Virgin Islands, and the Bureau of Indian Affairs on behalf of Indian tribes). These respondents will hereafter be referred to as “State respondents.”

Frequency: The triennial HSP is a planning document for a State's entire traffic safety program and outlines the performance targets and countermeasure strategies for key program areas as identified by State and Federal data and problem identification. By statute, States must submit, and NHTSA must approve, the triennial HSP once every three years as a condition of providing Section 402 grant funds.

Number of Responses: NHTSA anticipates that it will receive 57 triennial HSPs, once every three years. This is based on the number of eligible respondents for the Highway Safety Grant Program.

Estimated Total Annual Burden Hours: NHTSA calculates the estimated burden hours for all State respondents based on the 57 eligible respondents for Section 402 grants (fifty States, the District of Columbia, Puerto Rico, the U.S. Virgin Islands, Guam, American Samoa, the Commonwealth of the Northern Mariana Islands, and the Secretary of the Interior). We estimate that this action, if adopted as proposed, would save each applicant 64 hours that was previously used to collect, review, and submit the PP&E section of the triennial HSP. The total estimated annual burden hours averaged over the triennial cycle for all State respondents would be 21.33 hours annually.

Estimated Total Annual Burden Cost: To calculate the estimated costs associated with respondents preparing application materials, NHTSA used the estimated average wage for “Management Analysts,” Occupation Code 13-1111. The Bureau of Labor Statistics estimates that the average hourly wage for management analysts in State and local government is $37.31.¹⁵ The Bureau of Labor Statistics estimates that wages for State and local government workers represent 61.6% of total compensation costs.¹⁶ Therefore, NHTSA estimates the hourly labor costs to be $55.44 and estimates that hourly labor cost associated with preparing the PP&E section of the triennial HSP to be $3,548.16 per respondent. Historically, all eligible States apply for and receive grants, so the total labor costs saved by all respondents by this proposal would be $202,245.12 once every three years. The total saved annual burden costs averaged over the triennial cycle for all State respondents would be $67,415.04.

¹⁵ See May 2024 Occupational Employment and Wage Estimates, Industry: State Government, excluding Schools and Hospitals (OEWS Designation), available at https://data.bls.gov/oes/#/industry/999200 (accessed June 23, 2025).

¹⁶ See Table 1. Employer Costs for Employee Compensation by ownership, available at https://www.bls.gov/news.release/ecec.t01.htm (accessed June 23, 2025).

Public Comments Invited: You are asked to comment on any aspects of this information collection, including (a) whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology.

Please submit any comments, identified by the docket number in the heading of this document, by the methods described in the ADDRESSES section of this document to NHTSA and OMB. Although comments may be submitted during the entire comment period, comments received within 30 days of publication are most useful.

G. Unfunded Mandates Reform Act

The Unfunded Mandates Reform Act (UMRA) of 1995 (Pub. L. 104-4) requires agencies to prepare a written assessment of the costs, benefits, and other effects of proposed or final rules that include a Federal mandate likely to result in expenditures by State, local, or tribal governments, in the aggregate, or by the private sector, of more than $100 million annually (adjusted annually for inflation with the base year of 1995). This rulemaking would not result in annual State expenditures exceeding the minimum threshold; instead, this proposed rule likely would decrease administrative costs for States. Further, this rulemaking action proposes updates to NHTSA's State highway safety grant program, a voluntary program, and States that choose to apply and qualify would receive grant funds.

H. National Environmental Policy Act

NHTSA has analyzed this rule for the purposes of the National Environmental Policy Act of 1969 (NEPA). In accordance with 42 U.S.C. 4336 and DOT NEPA Order 5610.1D, NHTSA has determined that this rule is categorically excluded pursuant to 23 CFR 771.118(c)(4), “Planning and administrative activities not involving or leading directly to construction, such as: Training, technical assistance and research; promulgation of rules, regulations, directives, or program guidance; approval of project concepts; engineering; and operating assistance to transit authorities to continue existing service or increase service to meet routine demand.” This rulemaking is not anticipated to result in any environmental impacts, and there are no unusual or extraordinary circumstances present in connection with this rulemaking.

I. E.O. 13175 (Consultation and Coordination With Indian Tribes)

E.O. 13175 (65 FR 67249, Nov. 9, 2000) requires Federal agencies to consult and coordinate with Tribes on a government-to-government basis on policies that have Tribal implications, including regulations, legislative comments or proposed legislation, and other policy statements or actions that have substantial direct effects on one or more Indian Tribes, on the relationship between the Federal Government and Indian Tribes, or on the distribution of power and responsibilities between the Federal Government and Indian Tribes. NHTSA has assessed the impact of this proposed rule on Indian tribes and determined that this action would not have tribal implications that require consultation under E.O. 13175.

J. Rule Summary

This notice proposes to reduce reporting requirements associated with the statute that directs that State highway safety programs result from meaningful public participation and engagement. As required by 5 U.S.C. 553(b)(4), a summary of this rule can be found at www.regulations.gov, Docket No. NHTSA-2025-0061, in the SUMMARY section of this proposed rule.

K. Regulation Identifier Number (RIN)

The Department of Transportation assigns a regulation identifier number (RIN) to each regulatory action listed in the Unified Agenda of Federal Regulations. The Regulatory Information Service Center publishes the Unified Agenda twice a year. You may use the RIN contained in the heading at the beginning of this document to find this action in the Unified Agenda.

L. Privacy Act

In accordance with 5 U.S.C. 553(c), DOT solicits comments from the public to inform its rulemaking process. DOT posts these comments, without edit, to www.regulations.gov, as described in the system of records notice, DOT/ALL-14 FDMS, accessible through www.dot.gov/privacy. In order to facilitate comment tracking and response, NHTSA encourages commenters to provide their name, or the name of their organization; however, submission of names is optional. Anyone is able to search the electronic form of all comments received into any of our dockets by the name of the individual submitting the comment (or signing the comment, if submitted on behalf of an association, business, labor union, etc.). For information on DOT's compliance with the Privacy Act, please visit https://www.transportation.gov/privacy.

List of Subjects in 23 CFR Part 1300

Grant programs—transportation, Highway safety, Intergovernmental relations, Reporting and recordkeeping requirements, Administrative practice and procedure, Alcohol abuse, Drug abuse, Motor vehicles—motorcycles.

For the reasons stated in the preamble, under the authority of 23 U.S.C. 401 et seq., the National Highway Traffic Safety Administration proposes to amend title 23 CFR part 1300 as follows:

PART 1300—UNIFORM PROCEDURES FOR STATE HIGHWAY SAFETY GRANT PROGRAMS

1. The authority citation for part 1300 continues to read as follows:

Authority: 23 U.S.C. 402; 23 U.S.C. 405; Sec. 1906, Pub. L. 109-59, 119 Stat. 1468, as amended by Sec. 25024, Pub. L. 117-58, 135 Stat. 879; delegation of authority at 49 CFR 1.95.

Subpart A—General

2. Amend § 1300.3 by revising the definition of Triennial Highway Safety Plan to read as follows:

* * * * *

Triennial Highway Safety Plan (triennial HSP) means the document that the State submits once every three fiscal years documenting its highway safety program, including the State's highway safety planning process and problem identification, performance plan, countermeasure strategy for programming funds, and performance report.

* * * * *

Subpart B—Triennial Highway Safety Plan and Annual Grant Application

3. Amend § 1300.11 by

a. revising paragraph (b)(1)(i) to read as follows:

* * * * *

(b) * * *

(1) * * *

(i) Description of the processes, data sources, and information used by the State in its highway safety planning (i.e., problem identification, performance measures, and countermeasure strategies); and

* * * * *

b. by removing and reserving paragraph (b)(2).

4. Amend § 1300.13 by revising paragraph (b)(3)(i) to read as follows:

* * * * *

(b) * * *

(3) * * *

(i) The specific political subdivision is involved in the planning process of the State's highway safety program (for example, as part of the State's public participation and engagement, as part of the State's planning for the annual grant application, or as part of ongoing planning processes), and the State then enters into agreements based on identification of need by the political subdivision and implements the project or activity accordingly. The State must maintain documentation that shows the political subdivision's participation in the planning processes (e.g., meeting minutes, data submissions, etc.), and also must obtain written acceptance by the political subdivision of the project or activity being provided on its behalf prior to implementation.

* * * * *

Issued in Washington, DC, under authority delegated in 49 CFR 1.81 and 1.95 and 49 CFR 501.4 and 501.5.
Peter Simshauser,
Chief Counsel, NHTSA.

[FR Doc. 2025-18182 Filed 9-18-25; 8:45 am]

BILLING CODE 4910-59-P